MEDICARE PAYMENT ADVISORY COMMISSION

Commission Meeting

AGENCY: Medicare Payment Advisory Commission.

ACTION: Notice of meeting.

SUMMARY: The Commission will hold its next public meeting on Thursday, March 21, 2002, and Friday, March 22, 2002, at the Ronald Reagan Building, International Trade Center, 1300 Pennsylvania Avenue, NW., Washington, DC. The meeting is tentatively scheduled to begin at 10 a.m. on March 21, and at 9 a.m. on March 22.

Topics for discussion include: Assessing the Medicare benefit package; changes in medical practice and the delivery of care—implications for the Medicare benefit package; changes in private sector benefit packages—implications for the Medicare benefit package; supplementing the Medicare benefit package: Medicaid, Medigap, retiree health care, and the role of Medicare+Choice; total spending and sources of payment for beneficiaries' health care; coverage of and payment for non-physician practitioners; beneficiaries' access to Medicare hospice care; Medicare coverage of cardiac rehabilitation programs and pulmonary rehabilitation services; Medicare benefit package: preliminary findings; criteria for evaluating potential changes to the Medicare benefit package; options for changing the Medicare benefit package, and reviewing the SGR update for 2003.

Agendas will be mailed on March 12, 2002. The final agenda will be available on the Commission's website (www.MedPAC.gov).

ADDRESSES: MedPAC's address is: 1730 K Street, NW., Suite 800, Washington, DC 20006. The telephone number is (202) 653-7220.

FOR FURTHER INFORMATION CONTACT: Diane Ellison, Office Manager, (202) 653-7220.

Murray N. Ross,
Executive Director.

[FR Doc. 02-5921 Filed 3-11-02; 8:45 am]

BILLING CODE 6820-BW-M